DEPARTMENT OF HEALTH AND HUMAN SERVICES

Announcement of Intent To Establish Federal Advisory Committee on Long COVID

AGENCY: Office of the Assistant Secretary for Health, Office of the Secretary, Department of Health and Human Services.

ACTION: Notice.

SUMMARY: The Department of Health and Human Services announces the intent to establish an Advisory Committee on Long COVID and invites nominations for the Committee.

DATES: Nominations must be submitted by 11:59 p.m. eastern time on January 16, 2024.

ADDRESSES: Nominations may be submitted by email to LongCOVID@hhs.gov and addressed to Allison O'Donnell. 202-690-7694.

FOR FURTHER INFORMATION CONTACT: Allison O'Donnell at 202-690-7694 or LongCOVID@hhs.gov.

SUPPLEMENTARY INFORMATION: The Committee is authorized under 42 U.S.C. 217a, section 222 of the Public Health Service Act, as amended. The Committee is governed by the provisions of the Federal Advisory Committee Act, Public Law 92-463, as amended (5 U.S.C. chapter 10), which sets forth standards for the formation and use of advisory committees.

The April 5, 2022, Memorandum (https://www.whitehouse.gov/briefing-room/presidential-actions/2022/04/05/memorandum-on-addressing-the-long-term-effects-of-covid-19/) on Addressing the Long-term Effects of COVID-19 charged the Secretary of Health and Human Services (Secretary) with coordinating a Government-wide response to the longer-term effects of COVID-19. The Secretary named the Assistant Secretary for Health to coordinate the U.S. Government response to Long COVID. The Memorandum specified development and publication of two reports that were published August 3, 2022. One of the reports, the National Research Action Plan on Long COVID (https://www.covid.gov/assets/files/National-Research-Action-Plan-on-Long-COVID-08012022.pdf), called for the establishment of a Secretary's Advisory Committee on Long COVID. The Committee will bring perspectives from outside the Government to help inform action of the Executive Branch on Long COVID and associated conditions, with a focus on health equity. Numerous entities across the U.S. Government fund and conduct research and use external advisory bodies. This Federal Advisory Committee does not replace or supersede the ongoing work of these advisory bodies.

Structure: The Committee will consist of up to 20 members, including any Chair, Vice Chair, or Co-Chairs. Factors to be considered in selecting individuals to serve on the Committee include expertise in the issues to be examined by the Committee, as well as statutory obligations under FACA and desire for a balanced and diverse membership. To the extent possible, composition of the Committee will reflect the experience of an inclusive and diverse cross-section of persons with Long COVID and multidisciplinary expertise of those supporting and caring for those affected as well as specific clinical, medical, public health, behavioral health, human services, employment, data science, and research expertise. The membership of the Committee will reflect diverse individuals or organizations including underserved populations, with a focus on health equity.

The following areas of expertise will be considered in selecting the voting members with the goal of achieving a balanced membership in terms of points of view, expertise, and groups represented and functions to be performed by the Committee.

Long COVID and related groups: Representation from individuals living with Long COVID and organizations directly engaged in supporting people living with Long COVID.

Professional Associations: Representation from medical professional, behavioral health and human services associations representing practitioners caring for people with Long COVID, including those representing the primary healthcare system.

Disability and Chronic Illness Groups: Representation from associations, researchers, or organizations focused on disability and chronic illness, and their possible interplay with Long COVID.

Public Health and related groups: Representation from public health groups supporting communities in addressing the impacts of Long COVID.

Healthcare and Social Care Providers: Clinical care settings and health systems involved in providing care for patients with Long COVID, including in underserved areas, such as rural communities and communities disproportionately impacted by Long COVID.

Employee and Employer Related Groups: Representation from employee and employer experts, attorneys, or organizations involved in addressing the impacts of Long COVID in the workplace, including discrimination.

Research: Researchers and research institutions involved in Long COVID and associated conditions research.

Non-voting Industry Representatives: Those involved in, or representing those involved in, Long COVID research and development, including prevention, diagnostics, and treatment will be designated to represent the interests of this sector.

Non-voting Federal Liaisons, without limit, may be solicited, as needed, as ex officio members.

Equal opportunity practices regarding membership appointments to the Committee will be aligned with HHS policies. To the extent possible, HHS will ensure the Committee membership is balanced in expertise, experience, education, and institutional affiliation.

Members of the Committee will be classified as Special Government Employees (SGE) during their term of appointment and, as such, are subject to the ethical standards of conduct for federal employees. Upon entering the position and annually throughout the term of appointment, members of the Committee will be required to complete and submit a report of their financial holdings.

Nominations and Appointments for Memberships: Nominees, including self-nominees, will be considered for appointment as members of the Committee. Only complete nomination packages submitted on time will be considered. To be considered for an appointment, submission of the following information for each nominee is required: (1) a cover letter that clearly states the name and place of work of the nominee, the rationale for the nomination, and a statement that the nominee would be willing to serve as a member of the Committee, if selected; (2) the name, address, telephone number, and email address for the individual being nominated and the nominator, if applicable; and (3) a copy of the nominee's resume or curriculum vitae. Nominees with no professional affiliation may submit an optional letter of recommendation.

The curriculum vitae should include the following information: (a) education; (b) experience (current and former); (c) affiliations; (d) current memberships (expert panels, committees, or other relevant groups, including positions held); (e) any peer-reviewed publications (for past 5 years); (f) any oral presentations (for past 5 years); (g) editorials, opinion pieces, and blogs (for past 5 years); (h) grants, contracts, or research funding (for past 15 years); (i) name of any corporation, professional society, association, panel, company, firm, government agency (Federal, State, and local), research organization, educational institution, committee, or other organization or institution (government, private, and not-for-profit; domestic and foreign) in which the nominee's services have been, will be, or are expected to be provided, with or without compensation, including on a part-time or seasonal basis as an officer, medical staff, board member, owner, trustee, director, expert advisor, consultant (paid or unpaid), official spokesperson, member of speakers bureau, or expert witness (for past 5 years and upcoming); (j) other paid travel or honoraria received, not included above (for past 5 years). If the nominee does not have anything to report for the sections, indicate “none.” Web links to publications, presentations, and other materials available online are requested, when available.

Where prohibited by Federal law or regulations, nominations will not be accepted directly from HHS research and promotion boards. Self-nominations and nominations by members of research and promotion boards in their individual capacity will be considered. Federal employees should not be nominated for consideration for appointment to this Committee.

Dated: November 2, 2023.
Xavier Becerra,
Secretary, Department of Health and Human Services.

[FR Doc. 2023-24586 Filed 11-16-23; 8:45 am]

BILLING CODE 4150-03-P